DEPARTMENT OF HOUSING AND URBAN DEVELOPMENT

[Docket No. FR-7084-N-04]

60-Day Notice of Proposed Information Collection: Semi-Annual Labor Standards Enforcement Report—Local Contracting Agencies (HUD Program); OMB Control No.: 2501-0019

AGENCY: Office of Field Policy and Management, Housing and Urban Development (HUD).

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: August 12, 2024.

ADDRESSES: Interested persons are invited to submit comments regarding this proposal. Written comments and recommendations for the proposed information collection can be sent within 60 days of publication of this notice to www.reginfo.gov/public/do/PRAMain. Find this particular information collection by selecting “Currently under 60-day Review—Open for Public Comments” or by using the search function. Interested persons are also invited to submit comments regarding this proposal and comments should refer to the proposal by name and/or OMB Control Number and should be sent to: Jennifer A. Dupont, Program Analyst, Office of Field Policy and Management, Department of Housing and Urban Development, 40 Marietta Street, 10th Floor, Atlanta, GA 30303 or the number (678) 732-2034 this is not a toll free number or email at Jennifer.A.Dupont@hud.gov for a copy of the proposed forms or other available information.

FOR FURTHER INFORMATION CONTACT: Colette Pollards, Reports Management Officer, QDAM, Department of Housing and Urban Development, 451 7th Street SW, Washington, DC 20410, telephone (202) 402-3400 (this is not a toll free number) or email Colette Pollard at Colette.Pollard@hud.gov for copies of the proposed forms and other available information. HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The Department is submitting the proposed information collection to OMB for review, as required by the Paperwork Reduction Act of 1995 (44 U.S.C. chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Information Collection: Semi-Annual Labor Standards Enforcement Report—Local Contracting Agencies (HUD Programs).

OMB Control Number, if applicable: 2501-0019.

Description of the need for the information and proposed use: The Department of Labor (DOL) requires all Federal agencies administering programs subject to Davis-Bacon wage requirements covered by 29 CFR 5.7(b) to submit a semi-annual report of all new covered contracts/projects and all enforcement activities during the six-month reporting period. For HUD to comply, HUD collects data from state and local agencies that administer HUD-assisted programs subject to Davis-Bacon requirements. HUD requires these agencies to complete and submit a Semi-annual Labor Standards Enforcement Report every six months. Respondents and HUD must retain a copy of the Semi-annual Labor Standards Enforcement Report files at least three years.

Agency form numbers, if applicable: HUD FORM 4710.

Estimation of the total numbers of hours needed to prepare the information collection including number of respondents, frequency of response, and hours of response:

Information collection | Number of respondents | Frequency of response | Responses per annum | Burden hour per response | Annual burden hours | Hourly cost per response | Annual cost
HUD 4710 Semi-Annual Labor Standards Enforcement Report—Local Contracting Agencies (HUD Programs) | 4,565 | 2 | 9,130 | 1.0 | 9,130 | $48.69 | $444,539.70
HUD 4710 Semi-Annual Labor Standards Enforcement Report—Local Contracting Agencies (HUD Programs) i | 0 | 0 | 0 | 0 | 0 | 0 | 0.00
Total | 4,565 | 2 | 9,130 | 1.0 | 9,130 | 48.69 | 444,539.70

Authority: The Paperwork Reduction Act of 1995, 44 U.S.C. chapter 35, as amended.

Christopher D. Taylor,
Director, Field Policy and Management.

[FR Doc. 2024-12729 Filed 6-10-24; 8:45 am]

BILLING CODE 4210-67-P